DEPARTMENT OF EDUCATION

Office of Elementary and Secondary Education—School Improvement Programs—Native Hawaiian Curriculum Development, Teacher Training and Recruitment Program

AGENCY: Department of Education.

ACTION: Notice of final funding priorities for fiscal year (FY) 2001.

SUMMARY: The Secretary announces final funding priorities for the Fiscal Year (FY) 2001 grant competition under the Native Hawaiian Curriculum Development, Teacher Training and Recruitment Program. After funding continuation awards, the Secretary will use the remaining funds available under the program to support new grants that meet either of the following absolute priorities as described in this notice:

Absolute Priority 1—The project focuses entirely on activities in one or more of the following areas: (a) aquaculture, (b) prisoner education initiatives, (c) waste management innovation, (d) computer literacy, (e) Big Island astronomy, and (f) indigenous health programs; or

Absolute Priority 2—The project focuses entirely on Native Hawaiian language revitalization activities, including K-12 language immersion programs, preservice and in-service teacher training programs, and programs designed to increase the number of Native Hawaiian teachers.

EFFECTIVE DATE: August 24, 2001.

FOR FURTHER INFORMATION CONTACT: Lynn Thomas, (202) 260-1541. If you use a telecommunications device for the deaf (TDD), you may call the Federal Information Relay Service (FIRS) at 1-800-877-8339. Individuals with disabilities may obtain this document in an alternative format (e.g., Braille, large print, audiotape, or computer diskette) on request to the contact person listed in the preceding paragraph.

Note: This notice of final priority does not solicit applications. A notice inviting applications under this competition is published elsewhere in this issue of the Federal Register. The notice inviting applications will specify the deadline date which applications for an award must be mailed or hand-delivered to the Department.

SUPPLEMENTARY INFORMATION: The Secretary published a notice of proposed priorities for this competition in the Federal Register on June 11, 2001 (66 FR 31216-31218). This notice announces the final priorities for the competition.

In response to the notice of proposed priorities, the Secretary received comments from three organizations. One commenter strongly supported aquaculture as an area for Absolute Priority 1 and recommended no changes to the priority. A summary of the other comments, responses to the comments, and any changes to the priorities is provided below.

Analysis of Comments and Changes

Comment: One commenter expressed concern that the amount of funding that would be available to support activities under Absolute Priority 1, and prisoner education in particular, was too limited.

Response: After funding continuation awards and supporting activities in the significant area of Native Hawaiian language revitalization, the Secretary anticipates that there will be approximately $900,000 to support activities under Absolute Priority 1. The actual amount of funding to be awarded between the two absolute priorities and among the categories in Absolute Priority 1 will be determined on the basis on the quality of the applications received. Additional resources under this program are not available.

Changes: None.

Comments: A second commenter suggested that all grantees seeking funds under the first proposed absolute priority be required to include as part of their projects preservice and in-service teacher training.

Response: While preservice and in-service teacher training are allowable activities under the program, the Secretary believes that applicants should have the flexibility to seek funds to support any one or more of the four statutory purposes—curricula development, preservice teacher training, in-service teacher training, or teacher recruitment.

Changes: None.

Comment: The second commenter also proposed some editorial revisions to portions of the first proposed absolute priority to clarify the intent of the priority.

Response: The proposed editorial revisions clarify the intent of the first proposed absolute priority but do not substantively change the priority. The suggested changes are reflected in the final priority.

Changes: Minor editorial revisions are reflected in the aquaculture, Big Island astronomy, and indigenous health sections of Absolute Priority 1.

Comment: The second commenter also suggested that the second proposed absolute priority specifically state that the Native Hawaiian language revitalization activities include native speaker programs, the use of media to provide enrichment and community participation, and other specific activities.

Response: The Secretary believes that it is important to give applicants flexibility in developing Native Hawaiian language revitalization proposals. The specific activities suggested by the commenter may be included in a proposal that addresses the second absolute priority, but are not required.

Changes: None.

Absolute Priorities: Under 34 CFR 75.105(c)(3) and the Native Hawaiian Education Act, the Secretary gives an absolute preference to applicants that meet either of the following absolute priorities, and funds under this competition only those applications that meet either of these priorities:

Absolute Priority 1—The project focuses entirely on activities in one or more of the following six areas:

(a) Aquaculture—to support programs that concentrate on aquaculture, the science of the cultivation of marine life and its connections to Native Hawaiian traditions. A comprehensive aquaculture program will assist Native Hawaiian students in reaching challenging standards in science and mathematics in an intellectually stimulating environment and give them a greater understanding and appreciation of their Native Hawaiian culture.

(b) Prisoner education initiatives—to support programs that target juvenile offenders or youth at risk of becoming juvenile offenders and that involve comprehensive and culturally sensitive strategies for reaching the target population through family counseling, basic education/jobs skills training, and the involvement of community elders as mentors.

(c) Waste management innovation—to study and document traditional Hawaiian practices of sustainable waste management and to prepare teaching materials for educational purposes and for demonstration of the use of Native Hawaiian plants and animals for waste treatment and environmental remediation.

(d) Computer literacy—to support curriculum development, teacher training and model programs designed to increase computer literacy and access for Native Hawaiian elementary and secondary school students;

(e) Big Island astronomy—to support the development of educational programs in Big Island astronomy for Native Hawaiian elementary and secondary school students to assist them in reaching challenging science and mathematics standards and to encourage them to enter the field of astronomy with a firm base in Native Hawaiian traditions. A comprehensive Big Island astronomy program will assist Native Hawaiian students in reaching challenging standards in science and mathematics in an intellectually stimulating environment and give them a greater understanding and appreciation of their Native Hawaiian culture; and

(f) Indigenous health programs—to support curriculum development, teacher training, and instruction activities that will foster a better understanding and knowledge of Native Hawaiian traditional medicine and preventative health practices, particularly among Native Hawaiian elementary and secondary students.

Absolute Priority 2—The project focuses entirely on Native Hawaiian language revitalization activities, including K-12 language immersion programs, preservice and in-service teacher training programs, and programs designed to increase the number of Native Hawaiian teachers.

Program Authority: Section 9209 of the Elementary and Secondary Education Act of 1965, as amended (20 U.S.C. 7909).

Electronic Access to This Document

You may review this document, as well as all other Department of Education documents published in the Federal Register, in text or Adobe Portable Document Format (PDF) on the Internet at the following site: www.ed.gov/legislation/FedRegister

To use the PDF you must have Adobe Acrobat Reader Program which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.access.gpo.gov/nara/index.html

Dated: July 20, 2001.
Thomas M. Corwin,
Acting Deputy Assistant Secretary for Elementary and Secondary Education.

[FR Doc. 01-18656 Filed 7-24-01; 8:45 am]

BILLING CODE 4000-01-P